COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and delete service(s) previously furnished by such agencies.

DATES: Comments must be received on or before: July 7, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

In accordance with 41 CFR 51-5.3(b), the Committee intends to add the service(s) requirement listed below to the Procurement List as a mandatory purchase only for the contracting activity and location with the proposed qualified nonprofit agency as the authorized source of supply. Prior to adding the service to the Procurement List, the Committee will consider other pertinent information, including information from Government personnel and relevant comments from interested parties regarding the Committee's intent to geographically limit this services requirement.

The following service(s) are proposed for addition to the Procurement List for production by the nonprofit agencies listed:

Service(s)

Service Type: Custodial and Food Service

Mandatory for: Federal Aviation Administration, Atlanta ARTCC, Hampton, GA and Atlanta TRACON, Peachtree City, GA

Authorized Source of Supply: Bobby Dodd Institute, Inc., Atlanta, GA

Contracting Activity: FEDERAL AVIATION ADMINISTRATION, 697DCK REGIONAL ACQUISITIONS SVCS

Deletions

The following service(s) are proposed for deletion from the Procurement List:

Service(s)

Service Type: Custodial service

Mandatory for: NOAA, National Weather Service, Johnson City, NY; 32 Dawes Drive; Johnson City, NY

Mandatory Source of Supply: Human Technologies Corporation, Utica, NY

Contracting Activity: NATIONAL OCEANIC AND ATMOSPHERIC ADMINISTRATION, DEPT OF COMMERCE NOAA

Service Type: Mailroom Operation

Mandatory for: U.S. Geological Survey: Denver Federal Center; Denver, CO

Mandatory Source of Supply: Bayaud Enterprises, Inc., Denver, CO

Contracting Activity: GEOLOGICAL SURVEY, OFFICE OF ACQUISITION AND GRANTS—DENVER

Michael R. Jurkowski,
Director, Business Operations.

[FR Doc. 2024-12479 Filed 6-6-24; 8:45 am]

BILLING CODE 6353-01-P